DEPARTMENT OF JUSTICE

Antitrust Division

Notice Pursuant to the National Cooperative Research and Production Act of 1993—Joint Venture Between Cree Lighting Company, General Electric Company and Gelcore, LLC

Notice is hereby given that, on February 26, 2001, pursuant to section 6(a) of the National Cooperative Research and Production Act of 1993, 15 U.S.C. 4301 et seq. (“the Act”), the Joint Venture between Cree Lighting Company, General Electric Company and GELcore, LLC (“Joint Venture”) has filed written notifications simultaneously with the Attorney General and the Federal Trade Commission disclosing changes in its membership status. The notifications were filed for the purpose of extending the Act's provisions limiting the recovery of antitrust plaintiffs to actual damages under specified circumstances. Specifically, one party to this venture, Widegap Technology, LLC, Westlake Village, CA, has been reorganized and is now named Cree Lighting Company, Goleta, CA.

No other changes have been made in either the membership or planned activity of the group research project. The Joint Venture intends to file additional written notification disclosing all changes in membership.

On December 29, 1998, the Joint Venture filed its original notification pursuant to section 6(a) of the Act. The Department of Justice published a notice in the Federal Register pursuant to section 6(b) of the Act on January 28, 1999 (64 FR 4471).

Constance K. Robinson,
Director of Operations, Antitrust Division.

[FR Doc. 01-7773 Filed 3-28-01; 8:45 am]

BILLING CODE 4410-11-M